Title 3—

The President

Proclamation 8412 of September 4, 2009

National Preparedness Month, 2009

By the President of the United States of America

A Proclamation

Preparedness is an essential element of a resilient and secure Nation. My Administration has made preparedness a top priority, and we are working every day to ensure our country stands ready to respond to any disaster or emergency—from wildfires and hurricanes, to terrorist attacks and pandemic disease. Our goal is to ensure a more resilient Nation—one in which individuals, communities, and our economy can adapt to changing conditions as well as withstand and rapidly recover from disruption due to emergencies.

During National Preparedness Month, we underscore the responsibility of individuals, families, and communities—including the private and nonprofit sectors—to do their part before an emergency. I urge all Americans to take time to prepare an emergency supply kit and a family emergency plan, and to educate themselves about potential disasters. I also ask Americans to work within their own communities to coordinate emergency preparedness efforts. All Americans share this responsibility, and we must all work together to safeguard the Nation from harm.

The Federal Emergency Management Agency (FEMA) supports and promotes citizen education and grassroots preparedness efforts. FEMA's Ready Campaign provides simple and practical steps that all Americans can take to protect themselves, their families, and their neighbors. Additionally, the Citizen Corps educates, trains, and coordinates volunteer activities that help make our communities safer and better prepared for emergencies. I encourage all Americans to learn more at www.ready.gov and www.citizencorps.gov.

NOW, THEREFORE, I, BARACK OBAMA, President of the United States of America, by virtue of the authority vested in me by the Constitution and laws of the United States, do hereby proclaim September 2009 as National Preparedness Month. I call upon the people of the United States to recognize the importance of preparing for potential emergencies beforehand and to observe this month with appropriate preparedness activities, events, and training to enhance our national resilience.

IN WITNESS WHEREOF, I have hereunto set my hand this fourth day of September, in the year of our Lord two thousand nine, and of the Independence of the United States of America the two hundred and thirty-fourth.

[FR Doc. E9-22051

Filed 9-10-09; 8:45 am]

Billing code 3195-W9-P